DEPARTMENT OF COMMERCE

National Oceanic and Atmospheric Administration

[I.D. 040506B]

Magnuson-Stevens Act Provisions; General Provisions for Domestic Fisheries; Application for Exempted Fishing Permits

AGENCY: National Marine Fisheries Service (NMFS), National Oceanic and Atmospheric Administration (NOAA), Commerce.

ACTION: Notice; receipt of Exempted Fishing Permit application.

SUMMARY: The Assistant Regional Administrator for Sustainable Fisheries, Northeast Region, NMFS (Assistant Regional Administrator) has decided that the subject Exempted Fishing Permit (EFP) application contains all the required information and warrant's farther consideration. The Assistant Regional Administrator has also made a preliminary determination that the activities authorized under the EFP would be consistent with the goals and objectives of the Northeast (NE) Multispecies Fishery Management Plan (FMP). Based on preliminary review of this project, a Categorical Exclusion (CE) from requirements to prepare either an Environmental Impact Statement (EIS) or an Environmental Assessment (EA) under the National Environmental Policy Act (NEPA) appears to be justified. However, further review and consultation may be necessary before a final determination is made to issue the EFP. Therefore, NMFS announces that the Assistant Regional Administrator proposes to recommend that an EFP be issued that would allow two commercial fishing vessels to conduct fishing operations that are otherwise restricted by the regulations governing the fisheries of the Northeastern United States. The EFP, which would enable researchers to investigate the feasibility of using low profile gillnets to catch flounders while limiting roundfish bycatch, would allow for exemptions from the FMP as follows: Gulf of Maine (GOM) Rolling Closure Areas I, II, III, IV, and V.

Regulations under the Magnuson-Stevens Fishery Conservation and Management Act require publication of this notification to provide interested parties the opportunity to comment on applications for proposed EFPs.

DATES: Comments must be received on or before April 26, 2006.

ADDRESSES: Written comments should be sent to Patricia A. Kurkul, Regional Administrator, NMFS, Northeast Regional Office, 1 Blackburn Drive, Gloucester, MA 01930. Mark the outside of the envelope “Comments on the GOM Low Profile Gillnet Study.” Comments may also be sent via facsimile (fax) to (978) 281-9135, or submitted via e-mail to the following address: DA6-32@noaa.gov.

FOR FURTHER INFORMATION CONTACT: Mark Grant, Fishery Management Specialist, (978) 281-9145, fax (978) 281-9135.

SUPPLEMENTARY INFORMATION: A complete application for an EFP was submitted on March 2, 2006, by Dr. Pingguo He of the University of New Hampshire (UNH) for a project funded by the Northeast Consortium. The primary goal of this joint project with the Massachusetts Division of Marine Fisheries is to test lower vertical profile flounder gillnets to reduce the catch of roundfish, such as cod, while retaining flounders, such as winter flounder, in inshore western GOM waters. Researchers anticipate that, if the experimental net is successful, data gathered during this study may be useful in the establishment of a Special Access Program for the use of NE multispecies B days-at-sea (DAS) in a future action.

The project would be conducted between May 1, 2006, and April 30, 2007, and would include flume tank trials and 45 days of at-sea trials. Two types of low profile gillnets, each 8 meshes deep with variations in flotation and hanging ratio, would be compared with three commercial cod and flounder gillnets, each 25 meshes deep. The participating vessels would fish the nets in fleets of 10 nets, two nets per type, alternately rigged so that two experimental nets can be compared with the three control nets. One vessel would fish six fleets per day; the other would fish eight fleets per day. The nets would be soaked for 24 hr before hauling.

All specimens caught would be sampled and measured. All undersized or otherwise protected fish would be returned to the sea as quickly as practicable after measurement and examination. The overall fishing mortality is estimated to be 30 percent of the average commercial fishing mortality that would result from the proposed number of DAS. The researcher anticipates that a total of 11,000 lb (4,990 kg) of fish would be harvested throughout the course of the study and there would be 8,420 lb (3,819 kg) of regulatory discards (see Table 1). All legal-sized fish, within the possession limit, would be sold, with the proceeds returned to the project for the purpose of enhancing future research.

Table 1: Estimated Catch and Discard by Species
Species | Harvested: lb | Harvested: kg | Discarded: lb | Discarded: kg
Cod | 4,000 | 1,814 | 700 | 318
Winter Flounder | 2,000 | 907 | 100 | 45
Gray Sole | 1,000 | 454 | 100 | 45
American Plaice | 1,000 | 454 | 100 | 45
Yellowtail Flounder | 200 | 91 | 20 | 9
Monkfish | 200 | 91 | 20 | 9
White Hake | 400 | 181 | 100 | 45
Lobster | 0 | 0 | 200 | 91
Dogfish | 0 | 0 | 5,000 | 2,268
Skates | 0 | 0 | 2,000 | 907

All at-sea research would be conducted from three fishing vessels, each of which would be fishing in a different area. This EFP would cover two vessels, the F/V Barbara & Lyn (permit # 230151, O.N. 552653) and the F/V Holly & Abby (permit # 250467, O.N. 590567). A third vessel, the F/V Capt. Al (permit # 221462, O.N. 693618), has previously been issued a separate EFP in the form of an extension. The F/V Barbara & Lyn would fish north of 42°10′ N. lat., and west of 69°00′ W. long. The F/V Holly & Abby would fish south of 42°40′ N. lat., and west of 70°00′ W. long. Both vessels would fish exclusively outside the Western GOM Closed Area. Researchers have asked for an exemption to the regulations at 50 CFR 648.81(f) establishing the GOM Rolling Closure Areas I, II, III, IV, and V because they believe that an optimum mixture of flounders and cod for testing the experimental gear will be present in the waters of the Western GOM during May and June. All research would be conducted using A DAS.

The applicant may request minor modifications and extensions to the EFP throughout the year. EFP modifications and extensions may be granted without further notice if they are deemed essential to facilitate completion of the proposed research and have minimal impacts that do not change the scope or impact of the initially approved EFP request.

Authority: 16 U.S.C. 1801 et seq.

Dated: April 5, 2006.
Alan D. Risenhoover,
Acting Director, Office of Sustainable Fisheries, National Marine Fisheries Service.

[FR Doc. E6-5323 Filed 4-10-06; 8:45 am]

BILLING CODE 3510-22-S